DEPARTMENT OF TRANSPORTATION

Federal Aviation Administration

14 CFR Parts 1, 11, 47, 48, 89, 91, and 107

[Docket No.: FAA-2019-1100]

RIN 2120-AL31

Remote Identification of Unmanned Aircraft; Delay

AGENCY: Federal Aviation Administration (FAA), U.S. Department of Transportation (DOT).

ACTION: Final rule; delay of effective and compliance date; correction.

SUMMARY: In accordance with the memorandum of January 20, 2021, from the Assistant to the President and Chief of Staff, titled “Regulatory Freeze Pending Review,” the Agency delays the March 16, 2021, effective date of the final rule, “Remote Identification of Unmanned Aircraft”, until April 21, 2021. As a result of the delay in the effective date, the Agency is also delaying the compliance date for the production requirements for remote identification broadcast modules by correcting the regulatory text.

DATES: As of March 10, 2021, the March 16, 2021, the effective date of the final rule published on January 15, 2021, at 86 FR 4390, is delayed to April 21, 2021.

The incorporation by reference approval published in the January 15, 2021, rule at 86 FR 4390, is delayed to April 21, 2021.

The correction to § 89.520 is effective April 21, 2021.

FOR FURTHER INFORMATION CONTACT: Ben Walsh, Flight Technologies and Procedures Division, Federal Aviation Administration, 470 L'Enfant Plaza SW, Suite 4102, Washington, DC 20024; telephone 1-844-FLY-MY-UA (1-844-359-6981); email: UAShelp@faa.gov.

SUPPLEMENTARY INFORMATION:

Electronic Access and Filing

A copy of the Notice of Proposed Rulemaking (NPRM) (84 FR 72438, December 31, 2019), all comments received, the Final Rule, and all background material may be viewed online at http://www.regulations.gov using the docket number listed above. A copy of this notice will be placed in the docket. Electronic retrieval help and guidelines are available on the website. It is available 24 hours each day, 365 days each year. An electronic copy of this document may also be downloaded from the Office of the Federal Register's website at http://www.federalregister.gov and the Government Publishing Office's website at http://www.govinfo.gov.

Background

On January 15, 2021, the final rule, “Remote Identification of Unmanned Aircraft” (RIN 2120-AL31) published in the Federal Register at 86 FR 4390. The final rule requires the remote identification of unmanned aircraft. The remote identification of unmanned aircraft in the airspace of the United States will address safety, national security, and law enforcement concerns regarding the further integration of these aircraft into the airspace of the United States, laying a foundation for enabling operational capabilities.

On January 20, 2021, the Assistant to the President and Chief of Staff issued a memorandum titled, “Regulatory Freeze Pending Review.” The memorandum requested that the heads of executive departments and agencies take steps to ensure the President's appointees or designees have the opportunity to review any new or pending rules. With respect to rules published in the Federal Register, but not yet effective, the memorandum asked that agencies consider postponing the rules' effective dates for 60 days from the date of the memorandum for the purpose of reviewing any questions of fact, law, and policy the rules may raise.

In accordance with this direction, the Agency has decided to delay the March 16, 2021, effective date of the final rule, Remote Identification of Unmanned Aircraft (RIN 2120-AL31), until April 21, 2021. Given the highly complex nature and length of Remote Identification of Unmanned Aircraft final rule, this delay in the final rule's March 16, 2021 effective date will afford the President's appointees or designees an opportunity to review the rule and will allow for consideration of any questions of fact, law, or policy that the rule may raise before it becomes effective. On the same day that FAA published the “Remote Identification of Unmanned Aircraft final rule”, FAA also published the “Operation of Small Unmanned Aircraft Systems Over People” final rule (86 FR 4314, January 15, 2021). The adoption of these two rules is inextricably connected. By separate action published elsewhere in this issue of the Federal Register, FAA is also delaying the effective date of the Operations of Small Unmanned Aircraft Systems over People final rule.

Additionally, as a result of the delay in the effective date, the March 16, 2021 compliance date in § 89.520 for production requirements for remote identification broadcast modules is delayed until April 21, 2021.

Waiver of Rulemaking and Delayed Effective Date

Under the Administrative Procedure Act (APA) (5 U.S.C. 553), the Federal Aviation Administration generally offers interested parties the opportunity to comment on proposed regulations and publish rules not less than 30 days before their effective dates. However, the APA provides that an agency is not required to conduct notice-and-comment rulemaking or delay effective dates when the agency, for good cause, finds that the requirement is impracticable, unnecessary, or contrary to the public interest. 5 U.S.C. 553(b)(B) and (d)(3). There is good cause to waive both of these requirements here, as they are impracticable and unnecessary. A delay in the effective date of the final rule, Remote Identification of Unmanned Aircraft, is essential for the President's appointees and designees to have adequate time to review the rule before it takes effect, and neither the notice and comment process nor the delayed effective date could be implemented in time to allow for this review, thereby making notice and comment impracticable. In addition, notice and comment on this delay is unnecessary because the delay is short, the effective dates remain aligned with the Operation of Small Unmanned Aircraft Systems over People final rule, and there is no change to the policy effectuated by the Remote Identification of Unmanned Aircraft final rule. This delay is insignificant in its nature and impact, and inconsequential to the regulated community and to the public.

Correction

In FR Doc. 2020-28948 (86 FR 4390) published on January 15, 2021, the following correction is made:

§ 89.520 [Corrected]

1. On page 4509, in the third column, in § 89.520, in the introductory text, the date “March 16, 2021” is corrected to read “April 21, 2021”.

Issued in Washington, DC, under the authority provided by 49 U.S.C. 106(f), 40101, 40103, 44701(a)(5), 44805, 44809, and section 2202 of Public Law 114-190, dated on March 4, 2021.
Steve Dickson,
Administrator, Federal Aviation Administration.

[FR Doc. 2021-04882 Filed 3-8-21; 8:45 am]

BILLING CODE 4910-13-P